Title 3—

The President

Proclamation 9840 of January 31, 2019

American Heart Month, 2019

By the President of the United States of America

A Proclamation

Heart disease is America's most prolific killer, responsible for one in four deaths in the United States each year. American Heart Month is an opportunity to remember the loved ones lost to this deadly disease, raise awareness of the warning signs and symptoms of heart disease and heart attacks, and commit to a lifestyle that improves overall heart health.

Although heart disease has persisted as the leading cause of death among Americans for nearly a century, we are steadily eroding its grip on our health. Heart disease claims a smaller and smaller percentage of our loved ones than it did at its height in the 1960s. Through technological advancements and decades of scientific research, we have learned a tremendous amount about the causes of heart disease. We now know that smoking, high blood pressure, high cholesterol, lack of physical activity, obesity, diabetes, and prediabetes are some of the leading factors that can contribute to our risk for heart disease. Most importantly, we have learned that it is never too late or too early to improve your heart health. Small changes—undertaken at any time—such as committing to a healthy diet and regular exercise can make a big difference.

Last November, the Department of Health and Human Services released the second edition of “Physical Activity Guidelines for Americans,” which outlines the importance of physical exercise and provides information on how adults and children can live more active lives and improve their cardiovascular health. Nearly 80 percent of adult Americans, however, fail to meet the key guidelines for both aerobic and muscle strengthening activity. The guidelines recommend that adults get at least two and a half hours per week of moderate aerobic physical activity and muscle-strengthening activities over two or more days each week. Children ages 6 through 17 should get 60 minutes or more of moderate to vigorous physical activity each day. As the risk for heart disease increases with age, it is vital to deter this deadly disease by taking steps to stay physically active throughout life, maintain a healthy body weight, and promote overall heart health, including by eating a well-balanced diet and abstaining from tobacco products.

This month, I encourage all Americans to prioritize their health and educate themselves about heart disease. Through our continued efforts as a Nation and as individuals, we can work to reduce the chance of heart disease and ensure both present and future generations of Americans live healthier and fuller lives.

In acknowledgement of the importance of the ongoing fight against heart disease, the Congress, by Joint Resolution approved on December 30, 1963, as amended (36 U.S.C. 101), has requested that the President issue an annual proclamation designating February as American Heart Month.

NOW, THEREFORE, I, DONALD J. TRUMP, President of the United States of America, do hereby proclaim February 2019 as American Heart Month. The First Lady and I encourage all Americans to participate in National Wear Red Day on February 1, 2019, to raise awareness and reaffirm our commitment to fighting heart disease. I also invite the Governors of the States, the Commonwealth of Puerto Rico, officials of other areas subject to the jurisdiction of the United States, and the American people to join me in recognizing and reaffirming our commitment to fighting heart disease.

IN WITNESS WHEREOF, I have hereunto set my hand this thirty-first day of January, in the year of our Lord two thousand nineteen, and of the Independence of the United States of America the two hundred and forty-third.

[FR Doc. 2019-01482

2-5-19; 8:45 am]

Billing code 3295-F9-P